FEDERAL MARITIME COMMISSION

Ocean Transportation Intermediary License Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Liberty Maritime, 4545 Lovetta, #3503, Spring, TX 77388, Officer: Michael Koch, Partner/Owner, (Qualifying Individual)

Jet Cargo Forwarders International, Inc., 3100 E. 8th Street, Suite C, National City, CA 91950, Officers: Jessie S. Gomez, President, (Qualifying Individual), Remedios F. Gomez, Secretary

Nex-Freight System Inc., 167—43 148th Avenue, Jamaica, NY 11434, Officer: Hyeok Namkoong, President, Qualifying Individual

Tug Logistics, Inc., 17979 Arenth Avenue, Bldg. #A, City of Industry, CA 91748 Officer: Robert Hsiang Lin, Wu, President, (Qualifying Individual)

Fortune Logistics Inc., 177—25 Rockaway Blvd., Jamaica, NY 11434, Officers: Alan Lo, President, (Qualifying Individual), Tommy Yu, Vice President

Clarke International Services Inc., 359 N. Oak Street, Inglewood, CA 90302, Officers: John J. Clarke, President, (Qualifying Individual). James F. Clarke, Vice President

Calvary Corp., 9660 Flair Drive, Suite 268, El Monte, CA 91731. Officers: Helen F. Ortiz, CFO, (Qualifying Individual), Frank Wang, President

Non-Vessel Operating Common Carrier and Ocean Freight Forwarder Transportation Intermediary Applicants

Navigational Logistics Inc., 144-24 156th Street, Suite 202, Jamaica NY 11434, Officers: Michael Tsahalis, President (Qualifying Individual), Matteo Sala, Vice President

Andrews Moving and Storage Company, One Andrews Circle, Brecksville, OH 44141, Officers: C. Keith Extep, Vice President (Qualifying Individual), Thomas T. Marshall, CEO

All World Logistics, Inc. dba Internet Shipping Line, 969 Newark Turnpike, Kearny, NJ 07032, Officers: Metin Nerkis, Vice President (Qualifying Individual), James Delaney Chairman

S.T.S. International Freight Forwarders, Inc., 10231 NW 21st Street, Miami, FL 33165 Officers: Maria Teresa Garcia, Secretary, (Qualifying Individual) Samuel Duran, President

Magic Logistics, Inc., 4436 NW 74th Avenue, Miami, FL 33166, Officers: Angela Arias, Director, (Qualifying Individual), Francesca Bazzichelli, President

Ocean Freight Forwarder—Ocean Transportation Intermediary Applicants

Seair International Inc., 147-39 175th Street, Suite 201, Jamaica, NY 11434, Officers: Zi Ping Wang, Vice President (Qualifying Individual), Bhaskar Cacarla, President

Maritime International, Inc., 20 Mingarry Drive, Richmond Hill, GA 31324, Officer: Bruce F. Mccray, President (Qualifying Individual)

RWC, Inc., 640 North Fries Avenue, Wilmington, CA 90744, Officer: Robert Cigliano, President (Qualifying Individual)

Dated: April 12, 2002.
Theodore A. Zook,
Assistant Secretary.

[FR Doc. 02-9369 Filed 4-17-02; 8:45 am]

BILLING CODE 6730-01-P